DEPARTMENT OF COMMERCE

National Institute of Standards and Technology

National Artificial Intelligence Advisory Committee

AGENCY: National Institute of Standards and Technology, Department of Commerce.

ACTION: Notice of open meeting.

SUMMARY: The National Institute of Standards and Technology (NIST) announces that the National Artificial Intelligence Advisory Committee (NAIAC or Committee) will hold an open meeting in-person and via web conference on February 10, 2023, from 11 a.m. to 3 p.m. Eastern time. The NAIAC members will discuss how to direct their input into actionable recommendations. Committee members will work during the following months to turn the areas of interest discussed at this meeting into recommendations that will be presented to the President and National Artificial Intelligence Initiative Office. The final agenda will be posted to the NAIAC website: https://www.ai.gov/naiac/.

DATES: The meeting will be held on Friday, February 10, 2023, from 11 a.m. to 3 p.m. Eastern time.

ADDRESSES: The meeting will be held in person and via live broadcast from 100 SAS Campus Dr., Cary, NC 27513. For instructions on how to attend and/or participate in the meeting, please see the SUPPLEMENTARY INFORMATION section of this notice.

FOR FURTHER INFORMATION CONTACT: Alicia Chambers, Committee Liaison Officer, National Institute of Standards and Technology, 100 Bureau Drive, MS 1000, Gaithersburg, MD 20899, alicia.chambers@nist.gov or 301-975-5333, or Melissa Banner, Designated Federal Officer, National Institute of Standards and Technology, 100 Bureau Drive, MS 1000, Gaithersburg, MD 20899, melissa.banner@nist.gov or 301-975-5245.

SUPPLEMENTARY INFORMATION: Pursuant to the Federal Advisory Committee Act, as amended, 5 U.S.C. App., notice is hereby given that the NAIAC will meet on Friday, February 10, 2023, from 11 a.m. to 3 p.m. The meeting will be open to the public and will be held in-person and via live broadcast. Interested members of the public will be able to participate in the meeting from remote locations or in-person. The primary purposes of this meeting are to receive updates from the Committee working groups and discuss how to direct their input into actionable recommendations. The final agenda will be posted to the NAIAC website: https://www.ai.gov/naiac/.

The NAIAC is authorized by Section 5104 of the National Artificial Intelligence Initiative Act of 2020 (Pub. L. 116-283), in accordance with the provisions of the Federal Advisory Committee Act, as amended (FACA), 5 U.S.C. App. The Committee advises the President and the National Artificial Intelligence Initiative Office on matters related to the National Artificial Intelligence Initiative. Additional information on the NAIAC is available at https://www.ai.gov/naiac/.

Comments: Individuals and representatives of organizations who would like to offer comments and suggestions related to items on the Committee's agenda for this meeting are invited to submit comments in advance of the meeting. Approximately ten minutes will be reserved for public comments, which will be read on a first-come, first-served basis. Please note that all submitted comments will be treated as public documents and will be made available for public inspection. All comments must be submitted via email with the subject line “February 10, 2023, NAIAC Meeting Comments” to naiac@nist.gov by 5:00 p.m. Eastern Time, Wednesday, February 8, 2023.

Admittance Instructions: The meeting will be broadcast live. The log-in instructions for the live broadcast will be made available on ai.gov/naiac/. Due to requirements for social distancing in the meeting room, limited space is available on a first-come, first-served basis for anyone who wishes to attend in person. Registration for in-person attendance is required. Registration details will be posted at https://www.ai.gov/naiac/#MEETINGS.

Alicia Chambers,
NIST Executive Secretariat.

[FR Doc. 2023-00026 Filed 1-5-23; 8:45 am]

BILLING CODE 3510-13-P